NUCLEAR REGULATORY COMMISSION

[Docket No. 50-395]

Virgil C. Summer Nuclear Station; Notice of Withdrawl of Application for Amendment to Facility Operating License

The U.S. Nuclear Regulatory Commission (the Commission) has granted the request of South Carolina Electric & Gas Company (the licensee) to withdraw its December 28, 2000, application, as supplemented September 20, 2001, and January 9, 2002, for proposed amendment to Facility Operating License No. 50-395 for the Virgil C. Summer Nuclear Station, located in Fairfield County, South Carolina.

The proposed amendment would have revised the Virgil C. Summer Nuclear Station Technical Specifications pertaining to the Engineered Safety Feature Actuation System Instrumentation, Functional Unit 5.b. (Automatic Actuation Logic and Actuation Relay) Turbine Trip and Feedwater Isolation.

The Commission had previously issued a Notice of Consideration of Issuance of Amendment published in the Federal Register on April 18, 2001 (66 FR 20009). However, by letter dated June 27, 2002, the licensee withdrew the proposed change.

For further details with respect to this action, see the application for amendment dated December 28, 2000, supplements dated September 20, 2001, and January 9, 2002, and the licensee's letter dated June 27, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 16th day of July.
For the Nuclear Regulatory Commission.
Karen R. Cotton,
Project Manager, Section 1, Project Directorate ll, Division of Licensing Project Management, Office of Nuclear Reactor Regulation.

[FR Doc. 02-19072 Filed 7-26-02; 8:45 am]

BILLING CODE 7590-01-P